DEPARTMENT OF TRANSPORTATION

Office of the Secretary

Application of Corporate Flight Management, Inc., for Commuter Authority

AGENCY: Department of Transportation.

ACTION: Notice of Order to Show Cause (Order 2013-11-21); Docket DOT-OST-2013-0061.

SUMMARY: The Department of Transportation is directing all interested persons to show cause why it should not issue an order finding Corporate Flight Management, Inc., fit, willing, and able, and awarding it Commuter Air Carrier Authorization.

DATES: Persons wishing to file objections should do so no later than December 17, 2013.

ADDRESSES: Objections and answers to objections should be filed in Docket DOT-OST-2013-0061 and addressed to U.S. Department of Transportation, Docket Operations, (M-30, Room W12-140), 1200 New Jersey Avenue SE., West Building Ground Floor, Washington, DC 20590, and should be served upon the parties listed in Attachment A to the order.

FOR FURTHER INFORMATION CONTACT: Lauralyn Remo, Air Carrier Fitness Division (X-56), U.S. Department of Transportation, 1200 New Jersey Avenue SE., Washington, DC 20590, (202) 366-9721.

Dated: November 25, 2013.
Susan L. Kurland,
Assistant Secretary for Aviation and International Affairs.

[FR Doc. 2013-28878 Filed 12-2-13; 8:45 am]

BILLING CODE 4910-9X-P